DEPARTMENT OF AGRICULTURE

Food Safety and Inspection Service

9 CFR Parts 327, 351, 354, 355, 381, 500, and 592

[Docket No. FSIS 2019-0001]

RIN 0583-AD76

Establishing a Uniform Time Period Requirement and Clarifying Related Procedures for the Filing of Appeals of Agency Inspection Decisions or Actions; Correction

AGENCY: Food Safety and Inspection Service, USDA.

ACTION: Proposed rule; correction.

SUMMARY: This document corrects the Regulation Identifier Number that appeared in a proposed rule published in the Federal Register on July 15, 2021, regarding establishing a uniform time period requirement and clarifying related procedures for the filing of appeals of agency inspection decisions or actions.

DATES: July 28, 2021.

FOR FURTHER INFORMATION CONTACT: Rachel Edelstein, Assistant Administrator, Office of Policy and Program Development by telephone at (202) 205-0495.

SUPPLEMENTARY INFORMATION:

Correction

In proposed rule FR Doc. 2021-14947, beginning on page 37251 in the issue of July 15, 2021, make the following correction: On page 37251, in the first column, the Regulation Identifier Number is corrected to read “RIN 0583-AD76”.

Done at Washington, DC.
Paul Kiecker,
Administrator.

[FR Doc. 2021-16058 Filed 7-27-21; 8:45 am]

BILLING CODE 3410-DM-P